DEPARTMENT OF AGRICULTURE

Food and Nutrition Service

7 CFR Parts 210, 215, 220, 225, 226 and 245

[FNS-2008-0001]

RIN 0584-AD60

Direct Certification and Certification of Homeless, Migrant and Runaway Children for Free School Meals; Approval of Information Collection Request

AGENCY: Food and Nutrition Service, USDA.

ACTION: Interim rule; notice of approval of Information Collection Request (ICR).

SUMMARY: The interim rule entitled Direct Certification and Certification of Homeless, Migrant and Runaway Children for Free School Meals was published on April 25, 2011. The ICR for this rule revised an existing information collection, OMB Control Number 0584-0026, and created a new collection OMB Control Number 0584-0585. The Office of Management and Budget (OMB) cleared the associated ICRs on April 19, 2013 and August 14, 2013, respectively. This document announces the approval of the ICRs.

DATES: The ICRs associated with the interim rule published in the Federal Register on April 25, 2011, at 76 FR 22785, were approved by OMB on April 19, 2013 under OMB Control Number 0584-0026 and August 14, 2013 under OMB Control Number 0584-0585.

FOR FURTHER INFORMATION CONTACT: William Wagoner, Policy and Program Development Branch, Child Nutrition Division, Food and Nutrition Service, USDA, 3101 Park Center Drive, Room 1212, Alexandria, Virginia 22302, (703) 305-2837, or William.wagoner@fns.usda.gov.

Dated: September 30, 2013.
Audrey Rowe,
Administrator, Food and Nutrition Service.

[FR Doc. 2013-25217 Filed 10-25-13; 8:45 am]

BILLING CODE 3410-30-P